DEPARTMENT OF HEALTH AND HUMAN SERVICES

Health Resources and Service Administration

Council on Graduate Medical Education; Notice of Meeting

In accordance with section 10(a)(2) of the Federal Advisory Committee Act (Public Law 92-463), notice is hereby given of the following meeting:

Name: Council on Graduate Medical Education (COGME).

Dates and Times: April 7, 2016 (Day 1—8:30 a.m.-5:00 p.m., EST). April 8, 2016 (Day 2—8:30 a.m.-3:00 p.m., EST).

Place: In-Person Meeting with Webinar/Conference Call Component, 5600 Fishers Lane, Room 5A02, Rockville, MD 20857.

Status: The meeting will be open to the public.

Purpose: The COGME provides advice and recommendations to the Secretary of the Department of Health and Human Services (the Secretary) on a range of issues including the supply and distribution of physicians in the United States, current and future physician shortages or excesses, issues relating to foreign medical school graduates, the nature and financing of medical education training, and the development of performance measures and longitudinal evaluation of medical education programs. COGME's reports are submitted to the Secretary and ranking members of the Senate Committee on Health, Education, Labor, and Pensions and the House of Representatives Committee on Energy and Commerce.

COGME will start its official meeting at 8:30 a.m. each day. Discussion will focus on finalizing the draft of COGME's Diversity Resource Paper and the development of a vision, mission, and guiding principles for graduate medical education.

Agenda: The COGME agenda will be available 2 days prior to the meeting on the HRSA Web site at http://www.hrsa.gov/advisorycommittees/bhpradvisory/cogme/index.html.

SUPPLEMENTARY INFORMATION: Requests to make oral comments or provide written comments to the COGME should be sent to Dr. Joan Weiss, Designated Federal Official, using the address and phone number below. Individuals who plan to participate on the conference call and webinar should notify Dr. Weiss at least 3 days prior to the meeting, using the address and phone number below. Individuals who plan to attend and need special assistance, such as sign language interpretation or other reasonable accommodations, should notify the contact person listed below at least 10 days prior to the meeting. Members of the public will have the opportunity to provide comments. Interested parties should refer to the meeting subject as the HRSA Council on Graduate Medical Education.

• The conference call-in number is 1-800-619-2521. The passcode is 9271697.

• The webinar link is https://hrsa.connectsolutions.com/cogme-council/.

FOR FURTHER INFORMATION CONTACT: Anyone requesting information regarding the COGME should contact Dr. Joan Weiss, Designated Federal Official within the Bureau of Health Workforce, Health Resources and Services Administration, in one of three ways: (1) Send a request to the following address: Dr. Joan Weiss, Designated Federal Official, Bureau of Health Workforce, Health Resources and Services Administration, 5600 Fishers Lane, Room 15N39, Rockville, Maryland 20857; (2) call (301) 443-0430; or (3) send an email to jweiss@hrsa.gov.

Jackie Painter,
Director, Division of the Executive Secretariat.

[FR Doc. 2016-05877 Filed 3-15-16; 8:45 am]

BILLING CODE 4165-15-P